FEDERAL COMMUNICATIONS COMMISSION

47 CFR Parts 2 and 90

[PS Docket Nos. 13-87, 06-229; WT Docket No. 96-86, RM-11433, RM-11577; Report No. 3013]

Petition for Reconsideration of Action in Rulemaking Proceeding

AGENCY: Federal Communications Commission.

ACTION: Petition for reconsideration.

SUMMARY: In this document, a Petition for Reconsideration (Petition) has been filed in the Commission's Rulemaking proceeding by Danielle Coffey, on behalf of Telecommunications Industry Association.

DATES: Oppositions to the Petition must be filed on or before February 11, 2015. Replies to an opposition must be filed on or before February 23, 2015.

ADDRESSES: You may submit comments, identified by PS Docket Nos. 13-87, 06-229; WT Docket No. 96-86, by any of the following methods:

• Federal Communications Commission's Web site: http://fjallfoss.fcc.gov/ecfs2/. Follow the instructions for submitting comments.

• People with Disabilities: Contact the FCC to request reasonable accommodations (accessible format documents, sign language interpreters, CART, etc.) by email: FCC504@fcc.gov or phone: 202-418-0530 or TTY: 202-418-0432.

FOR FURTHER INFORMATION CONTACT: John A. Evanoff, Esq., Public Safety and Homeland Security Bureau, (202) 418-0848, email John.Evanoff@fcc.gov.

SUPPLEMENTARY INFORMATION: This is a summary of Commission's document, Report No. 3013, released January 14, 2015. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A) because this notice does not have an impact on any rules of particular applicability.

Subject: Proposed Amendments to the Service Rules Governing Public Safety Narrowband Operations in the 769-775/799-805 MHz Bands (PS Docket No. 13-87); National Public Safety Telecommunications Council Petition for Rulemaking on Aircraft Voice Operations at 700 MHz (RM-11433); National Public Safety Telecommunications Council Petition for Rulemaking to Revise 700 MHz Narrowband Channel Plan (RM-11433); Region 24 700 MHz Regional Planning Committee Petition for Rulemaking (WT Docket No. 96-86 and PS Docket No. 06-229); and State of Louisiana Petition for Rulemaking (RM-11577), published at 79 FR 71321, December 2, 2014, and published pursuant to 47 CFR 1.429(e). See also 47 CFR 1.4(b)(1) of the Commission's rules.

Number of Petitions Filed: 1.

Federal Communications Commission.
Marlene H. Dortch,
Secretary.

[FR Doc. 2015-01345 Filed 1-26-15; 8:45 am]

BILLING CODE 6712-01-P